FEDERAL TRADE COMMISSION

Agency Information Collection Activities; Submission for OMB Review; Comment Request

AGENCY: Federal Trade Commission (FTC).

ACTION: Notice.

SUMMARY: The FTC is seeking Office of Management and Budget (OMB) clearance under the Paperwork Reduction Act (PRA) for consumer surveys to gather information for its study of the marketing of violent entertainment to children. The FTC seeks public comment regarding this notice, which is the second of two notices required by the PRA for information collection requests of this nature.

DATES: Comments on the proposed information requests must be submitted on or before May 4, 2000.

ADDRESSES: Send comments regarding the burden estimate, or any other aspect of the information collection, including suggestions for reducing the burden, to the following addresses: Edward Clarke, Senior Economist, Office of Information and Regulatory Affairs, Office of Management and Budget, New Executive Office Building, Room 10202, Washington, D.C. 20503, and to Secretary, Federal Trade Commission, Room H-159, 600 Pennsylvania Avenue, N.W., Washington, D.C. 20580, or by e-mail to (entstudy@ftc.gov). The submissions should include the submitter's name, address, telephone number and, if available, FAX number and e-mail address. All submissions should be captioned “Entertainment Industry Study—FTC File No. P994511.”

FOR FURTHER INFORMATION CONTACT: Requests for additional information, such as requests for the Supporting Statement, related attachments, or copies of the proposed collection of information, should be addressed to Sally Forman Pitofsky, Attorney, Division of Financial Practices, Bureau of Consumer Protection, Federal Trade Commission, 600 Pennsylvania Avenue, N.W., Washington, D.C. 20580. Telephone: (202) 326-3318, E-mail: (entstudy@ftc.gov).

SUPPLEMENTARY INFORMATION: On August 25, 1999, the FTC published a Federal Register notice with a 60-day comment period soliciting comments from the public concerning the collection of information from: (1) members of the motion picture, music recording, and video and personal computer game industries and (2) consumers. See 64 FR 46392. The second PRA notice for the industry surveys was published on November 18, 1999 (64 FR 63046). OMB approved that collection of information on December 21, 1999 for use through December 31, 2002. This is the second PRA notice regarding the collection of information from consumers.

Comments Received

The FTC received one comment regarding its proposed consumer research from the Interactive Digital Software Association (IDSA). The IDSA recommended that the Commission put out for public comment any survey instrument used to assess consumer attitudes toward and awareness of the IDSA's Entertainment Software Rating Board program and that any such research survey only those who actually buy or play video games. Consistent with the requirements of the PRA, the survey instruments used to study consumer attitudes toward and awareness of the various rating or labeling systems will be made available to interested parties upon request to Commission staff. Moreover, only children whose parents say their children play electronic games will be asked to answer surveys regarding video or personal computer games. The same approach will be taken for surveying children about their experiences regarding motion pictures and music recordings.

Description of the collection of information and proposed use

The FTC proposes to conduct a telephone survey of 750 parents having a child aged 11 to 16 and to survey 400 children aged 11 to 16 in order to gather specific information on their perceptions of the entertainment rating or labeling systems. This information will be collected on a voluntary basis, and the identities of the consumers will remain confidential. The FTC will contract with a consumer research firm to select consumers and conduct the surveys. Survey results will help the FTC assess whether and how consumers use the rating or labeling systems of the motion picture, recording, and electronic games industries.

Estimated Hours Burden

The FTC will contract with a survey firm to: (1) Identify and survey 750 parents with children aged 11 to 16; and (2) survey 400 children aged 11 to 16.

The contractor first will ask screener questions of approximately 5,000 parents in order to provide a large enough random sample for the parent telephone survey. After a parent completes the telephone survey, the contractor will ask the parent whether a child in the household aged 11 to 16 may also participate in it.

The FTC staff estimates that the screening for the survey will consume no more than one minute of each respondent's time. In addition, the FTC will pretest the parent survey on approximately 50 respondents to ensure that all questions are easily understood. This pretest will take approximately 15 minutes per person. Answering the parent survey will take approximately 15 minutes per respondent. Answering the children survey also will impose an individual burden of approximately 15 minutes.

Thus, total hours burden attributable to the consumer research will approximate 383 hours, determined as follows:

Activity | Number of ­respondents | Number of ­minutes/activity | Total hours
Screening | 5,000 | 1 | 83
Parent survey: pretest | 50 | 15 | 12
Parent survey | 750 | 15 | 188
Children survey | 400 | 15 | 100
Total |  |  | 383

Estimated Cost Burden

The cost per respondent should be negligible. Participation is voluntary, and will not require any labor expenditures by respondents. There are no capital, start-up, operation, maintenance, or other similar costs to the respondents.

Debra A. Valentine,
General Counsel.

[FR Doc. 00-8246 Filed 4-3-00; 8:45 am]

BILLING CODE 6750-01-M